DEPARTMENT OF HEALTH AND HUMAN SERVICES

National Institutes of Health

Center for Scientific Review; Amended Notice of Meeting

Notice is hereby given of a change in the meeting of the Biomaterials and Biointerfaces Study Section, June 22, 2006, 8 a.m. to June 23, 2006, 4:30 p.m., Double Tree Hotel, 8120 Wisconsin Ave., Bethesda, MD 20814, which was published in the Federal Register on May 11, 2006, 71 FR 27505-27507.

The meeting will be held at the Ramada Inn Rockville, 1775 Rockville Pike, Rockville, MD 20852. The meeting dates and time remain the same. The meeting is closed to the public.

Dated: May 25, 2006.
Anna Snouffer,
Acting Director, Office of Federal Advisory Committee Policy.

[FR Doc. 06-5063 Filed 6-1-06; 8:45 am]

BILLING CODE 4140-01-M